DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below; including the party seeking relief, the regulatory provisions involved, the nature of the relief being requested, and the petitioner's arguments in favor of relief.

Kenwood U.S.A. Corporation

[(Waiver Petition Docket Number FRA-2009-0059]

Kenwood U.S.A. Corporation (Kenwood) seeks a waiver of compliance from certain provisions of 49 CFR part 232, Brake System Safety Standards for Freight and Other Non-Passenger Trains and Equipment. Specifically, § 232.409(d)—Inspection and Testing of end-of-train devices, which requires the telemetry equipment to be tested for accuracy and calibrated if necessary at least every 368 days. It also requires that the date and location of the last calibration or test, as well as the name of the person performing the calibration or test, be legibly displayed on a weather-resistant sticker or other marking device affixed to the outside of both the front and the rear unit.

This waiver will cover all Kenwood model NX-800-K UHF digital transceivers manufactured on or after August 24, 2007. This transceiver is competitive with a digitally synthesized radio produced by Wabtec, for which a similar waiver was granted (see Docket Number FRA-2004-18895); and Kenwood requests that its product be treated in a similar fashion.

Kenwood states that its NX-800-K device is inherently stable, reflecting the state of the art in digital synthesized transceivers. Test results submitted by Kenwood as part of its Federal Communications Commission (FCC) authorization process confirm the extreme frequency stability of this digital synthesized device. This compliance meets the (FCC) TIA-603 standard and current FCC Part 90 service rule specifications for railroad applications. Kenwood states that, as such, annual re-certification is unnecessary and administratively burdensome. Kenwood further states that the annual re-certification requirement was developed at the time when such radios were crystal controlled and stability was an issue, and that the rule has no application to digitally synthesized modern transceivers. Kenwood believes that the spirit of the rule is not violated by the requested waiver inasmuch as the radio design obviates the need for the annual certification and measurements.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0059) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78).

Issued in Washington, DC, on July 7, 2009.
Grady C. Cothen, Jr.,
Deputy Associate Administrator for Safety Standards and Program Development.

[FR Doc. E9-16506 Filed 7-13-09; 8:45 am]

BILLING CODE 4910-06-P